DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Children's Study of Environmental Effects on Health Advisory Committee.

The meeting will be open to the public, with attendance limited to space available. Individuals who plan to attend and need special assistance, such as sign language interpretation or other reasonable accommodations, should notify the Contact Person listed below in advance of the meeting.

Name of Committee: National Children's Study of Environmental Effects on Health Advisory Committee.

Date: June 5-6, 2003.

Time: June 5, 2003, 8 a.m. to 5:30 p.m.

Agenda: Members of the public that plan to attend should contact Circle Solutions at (703) 902-1339 or via e-mail ncs@circlesolutions.com. For agenda updates, please visit the NCS Web site nationalchildrensstudy.gov.

Place: Holiday Inn Select Bethesda, 8120 Wisconsin Ave., Versaille I, Bethesda, MD 20814.

Time: June 5, 2003, 8 a.m. to 5:30 p.m.

Agenda: Discussions will include activities presented at the March 2003 mtg; priorization of pilot studies; development of hypothesis; and various issues which may include topics on racism, health disparity, and ethical issues affecting the conduct of the Study.

Place: Holiday Inn Select Bethesda, 8120 Wisconsin Ave., Versaille I, Bethesda, MD 20814.

Contact Person: Peter M. Scheidt, MD, Medical Officer, Division of Epidemiology, Statistics and Prevention Research, National Institute of Child Health and Human Development, NIH, 6100 Executive Boulevard, Room 5C01, Bethesda, MD 20892, (301) 451-6421, ncs@mail.nih.gov.

(Catalogue of Federal Domestic Assistance Program Nos. 93.864, Population Research; 93.865, Research for Mothers and Children; 93.929, Center for Medical Rehabilitation Research; 93.209, Contraception and Infertility Loan Repayment Program, National Institutes of Health, HHS)
Dated: April 29, 2003.
LaVerne Y. Stringfield,
Director, Office of Federal Advisory Committee Policy.

[FR Doc. 03-11348 Filed 5-6-03; 8:45 am]

BILLING CODE 4140-01-M